DEPARTMENT OF JUSTICE

Antitrust Division

Notice Pursuant to the National Cooperative Research and Production Act of 1993—NFC Forum, Inc.

Notice is hereby given that, on June 10, 2005, pursuant to Section 6(a) of the National Cooperative Research and Production Act of 1993, 15 U.S.C. 4301 et seq. (“the Act”), NFC Forum, Inc. has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: NFC Forum, Inc., Wakefield, MA. The nature and scope of NFC Forum Inc.'s standards development activities are: (1) To promote the development and adoption of open, accessible standards, specifications, recommendations and solutions relating to Near Field Communication (collectively, “Specifications and Other Solutions”); (2) to promote such Specifications and Other Solutions worldwide; (3) to provide for testing and conformity assessment of implementations in order to ensure and/or facilitate compliance with Specifications and Other Solutions; (4) to operate a branding program based upon distinctive trademarks to create high customer awareness of, demand for, and confidence in products designed in compliance with Specifications and Other Solutions; and (5) to undertake such other activities as may from time to time be appropriate to further the purposes and achieve the goals set forth above.

Dorothy B. Fountain,
Deputy Director of Operations, Antitrust Division.

[FR Doc. 05-13348 Filed 7-6-05; 8:45 am]

BILLING CODE 4410-11-M